DEPARTMENT OF HEALTH AND HUMAN SERVICES

Food and Drug Administration

[Docket No. 2006D-0246]

Draft Manufactured Food Regulatory Program Standards; Availability; Correction

AGENCY: Food and Drug Administration, HHS.

ACTION: Notice; correction.

SUMMARY: The Food and Drug Administration is correcting a notice that appeared in the Federal Register of July 20, 2006. The document announced the availability of a draft document entitled “Manufactured Food Regulatory Program Standards.” The document was published with an incorrect Internet address. This document corrects that error.

FOR FURTHER INFORMATION CONTACT: Beverly Kent, Division of Federal-State Relations, Food and Drug Administration, 300 Pearl St., suite 100, Buffalo, NY 14202, 716-541-0331.

SUPPLEMENTARY INFORMATION: In FR Doc. E6-11539, appearing on page 41221 in the Federal Register of Thursday, July 20, 2006, the following correction is made:

1. On page 41222, in the first column, under the “Electronic Access” caption, the Internet address “http:www.fda.gov.ohrms/dockets/default.htm” is corrected to read “http://www.fda.gov/ohrms/dockets/98fr/06d-0246-gdl0001.pdf”.

Dated: July 25, 2006.
Jeffrey Shuren,
Assistant Commissioner for Policy.

[FR Doc. E6-12179 Filed 7-28-06; 8:45 am]

BILLING CODE 4160-01-S